DEPARTMENT OF THE INTERIOR

Office of the Secretary

Notice of Proposed Information Collection

AGENCY: Office of the Secretary, Office of Acquisition and Property Management, Interior.

ACTION: Notice and request for comments.

SUMMARY: The proposal for the collection of information listed below has been submitted to the Office of Management and Budget (OMB) for approval under the provisions of the Paperwork Reduction Act (44 U.S.C. Chapter 35). Copies of the proposed information collection request may be obtained by contacting the Clearance Officer at the phone number listed below. Comments and suggestions on the requirement should be made directly to the Office of Management and Budget. A copy of the comments and suggestions should also be sent to the Clearance Officer.

DATES: OMB has up to 60 days to approve or disapprove the information collection, but may respond after 30 days. Therefore, public comments should be submitted to OMB by April 5, 2006, in order to be assured of consideration.

ADDRESSES: Send your written comments to Office of Management and Budget, Office of Information and Regulatory Affairs, Attention, Department of the Interior Desk Officer, by fax to 202-395-6566, or by e-mail to oira_docket@omb.eop.gov. Send a copy of your written comments to Mary Heying, Department of the Interior, 1849 C Street, NW., MS-2607 MIB, Washington, DC 20240, or electronically to mary_heying@ios.doi.gov. Please mention that your comments concern the Claim for Relocation Payments—Residential, DI-381; Claim for Relocation Payments—Nonresidential, DI-382, OMB control # 1084-0010.

FOR FURTHER INFORMATION CONTACT: To request a copy of either or both information collection requests (Claim for Relocation Payments—Residential, DI-381 and/or Claim for Relocation Payments—Nonresidential, DI-382), and explanatory information and related forms, contact Mary Heying, at (202) 208-4080, or electronically at mary_heying@ios.doi.gov.

SUPPLEMENTARY INFORMATION:

I. Abstract

The Office of Management and Budget (OMB) regulations at 5 CFR 1320, which implement the Paperwork Reduction Act of 1995 (Pub. L. 104-13), require that interested members of the public and affected agencies have an opportunity to comment on information collection and recordkeeping activities (see 5 CFR 1320.8(d)). This notice identifies an information collection activity that the Office of Acquisition and Property Management has submitted to OMB for extension or re-approval.

Claim for Relocation Payments—Residential, DI-381 and Claim for Relocation Payments—Nonresidential, DI-382 were created because of amendments to the Uniform Relocation Assistance and Real Property Acquisition Policies Act of 1970 (Act) made by the Uniform Relocation Act Amendments of 1987, Title IV of the Surface Transportation and Uniform Relocation Assistance Act of 1987, Public Law 100-17. The Office of Acquisition and Property Management has revised these forms to more closely reflect the changes made by the Uniform Relocation Assistance and Real Property Acquisition Act final rule published January 4, 2005, by the Federal Highway Administration. The revision make the forms more user-friendly; incorporate citations; revise the sections relating to certification of occupancy status (citizen or national of the United States or an alien lawfully present in the United States); and clarify the allowable and non-allowable moving expenses sections. The Office of Acquisition and Property Management is requesting a 3 year term of approval for this information collection activity.

The information on the information collection requests will be used to determine the amount of money, if any, owed to persons or businesses displaced by Federal acquisition of their real property.

II. Data

(1) Title: Claim for Relocation Payments—Residential, DI-381; Claim for Relocation Payments—Nonresidential, DI-382.

OMB Control Number: 1084-0010.

Current Expiration Date: February 28, 2006.

Type of Review: Information Collection Renewal.

Affected Entities: Individuals or households, Businesses or other for-profit entities, Not-for-profit entities, Farms.

Estimated annual number of respondents:

DI-381: 116

DI-382: 84

Total: 200

Frequency of response: Annual.

(2) Annual reporting and recordkeeping burden.

Total annual reporting per respondent:

DI-381: 25 minutes

DI-382: 30 minutes

Total annual reporting:

DI-381: 48 hours

DI-382: 42 hours

Total: 90 hours

(3) Description of the need and use of the information: The information on the information collection requests will be used to determine the amount of money, if any, owed to persons or businesses displaced by Federal acquisition of their real property.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: February 24, 2006.
Debra E. Sonderman,
Director, Office of Acquisition and Property Management.

[FR Doc. E6-3091 Filed 3-3-06; 8:45 am]

BILLING CODE 4310-RF-P